DEPARTMENT OF LABOR

Employment and Training Administration

[TA-W-52,600]

Kelly Services, Inc., Sherman, TX; Notice of Termination of Investigation

Pursuant to section 221 of the Trade Act of 1974, as amended, an investigation was initiated on August 18, 2003, in response to a petition filed on behalf of workers at Kelly Services, Inc., Sherman, Texas.

The petitioning group of workers is covered by an earlier petition filed on August 5, 2003 (TA-W-52,467), that is the subject of an ongoing investigation for which a determination has not yet been issued. Further investigation in this case would duplicate efforts and serve no purpose; therefore the investigation under this petition has been terminated.

Signed at Washington, DC, this 27th day of August, 2003.
Linda G. Poole,
Certifying Officer, Division of Trade Adjustment Assistance.

[FR Doc. 03-24721 Filed 9-29-03; 8:45 am]

BILLING CODE 4510-30-P